Title 3—

The President

Proclamation 9538 of November 8, 2016

World Freedom Day, 2016

By the President of the United States of America

A Proclamation

The Berlin Wall stood in the city it divided for nearly 30 years, separating families and loved ones and embodying the authoritarianism that reigned in Communist states throughout the Cold War. On November 9, 1989, with the courage of their convictions and a longing to forge their own destinies, Germans from both the East and West sides of the Wall celebrated history as a defining symbol of the Iron Curtain collapsed. Twenty-seven years later, we pay tribute to the unyielding determination of those who chose unity over division, and we rededicate ourselves to carrying this spirit forward wherever core tenets of democracy and liberty are at stake.

When President John F. Kennedy declared in West Berlin that “when one man is enslaved, all are not free,” he captured the irrevocable truth of the work that remains to this day. Our world is more prosperous and free than at any time in our history, with more people than ever before choosing their leaders through free elections and living in democracies with greater respect for human rights. But such liberty will not emerge across the globe in a single wave—building strong, democratic institutions and maintaining robust civil societies is the work of generations, and it is up to each of us to put our shoulders to the wheel of progress and fight for the future we seek. Whether in quiet struggle or boisterous protest, the Berliners who endured the division the Berlin Wall created and stood for remind us of the necessity to never abandon the values that have brought us as far as we are today.

For centuries, people of every nation have borne witness to great strife and tension in our ever-changing world—but we have proven we can always choose a better course through our relentless pursuit of freedom. Across oceans and continents, in recognition of World Freedom Day, let us reaffirm our commitment to carrying forward the enduring celebration of liberty that defined the fall of the Berlin Wall.

NOW, THEREFORE, I, BARACK OBAMA, President of the United States of America, by virtue of the authority vested in me by the Constitution and the laws of the United States, do hereby proclaim November 9, 2016, as World Freedom Day. I call upon the people of the United States to observe this day with appropriate ceremonies and activities, reaffirming our dedication to freedom and democracy.

IN WITNESS WHEREOF, I have hereunto set my hand this eighth day of November, in the year of our Lord two thousand sixteen, and of the Independence of the United States of America the two hundred and forty-first.

[FR Doc. 2016-27496

Filed 11-10-16; 11:15 am]

Billing code 3295-F7-P